DEPARTMENT OF THE INTERIOR

Bureau of Land Management

[LLNVC02000.L14300000.FR0000; NVN088155 and NVN088157; 11-08807; MO #4500020758; TAS: 14X1109]

Notice of Realty Action: Competitive Sale of Public Land in Carson City, NV

AGENCY: Bureau of Land Management, Interior.

ACTION: Notice of Realty Action.

SUMMARY: The Bureau of Land Management (BLM) proposes to sell two parcels of public lands totaling approximately 10 acres located in the BLM Carson City District in Carson City, Nevada. The sales will be conducted as a competitive bid auction in which interested bidders must submit written sealed bids equal to, or greater than, the appraised fair market value of the lands.

DATES: Interested parties may submit written comments regarding the proposed sales to the BLM on or before September 8, 2011. The deadline for submission of sealed bids will be announced on the BLM Carson City District Web site: http://www.blm.gov/nv/st/en/fo/carson_city_field.html at least 30 days prior to the sale date.

ADDRESSES: Mail written comments to the BLM Field Manager, Sierra Front Field Office, 5665 Morgan Mill Road, Carson City, Nevada 89701. Sealed bids must also be submitted to this address.

FOR FURTHER INFORMATION CONTACT: Jo Ann Hufnagle, Realty Specialist, BLM Sierra Front Field Office at e-mail: Jo_Hufnagle@blm.gov or phone: (775) 885-6144. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The competitive sales will be conducted pursuant to Section 2601(d) of the Omnibus Public Land Management Act of 2009 (Pub. L. 111-11). Two parcels of public land are proposed for competitive sale in Carson City, Nevada. One parcel, identified as the South Edmonds Parcel, is on South Edmonds Street in a residential area near Prison Hill surrounded by private land. The other parcel, identified as Parcel 1A, is in the southwestern portion of the city in the vicinity of the junction of U.S. Highway 50 West and U.S. 395. This parcel includes portions of U.S Highway 50 West and is located behind a Costco store in a commercial business area. The lands proposed for sale are legally described as:

Mount Diablo Meridian

Sale 1—South Edmonds Parcel

T. 15 N., R. 20 E.,

Sec. 33, lot 20.

The area described contains 2.51 acres, more or less, in Carson City Consolidated Municipality, Nevada.

The South Edmonds parcel is proposed for sale at the appraised fair market value of $180,000.

Sale 2—Parcel 1A

T. 15 N., R. 20 E.,

Sec. 31, NE¼SE¼NW¼SE¼, SW¼SE¼NW¼SE¼, and SE¼SE¼NW¼SE¼.

The area described contains 7.5 acres, more or less, in Carson City Consolidated Municipality, Nevada.

Parcel 1A is proposed for sale at the appraised fair market value of $50,000. Administrative jurisdiction of the land within Parcel 1A was transferred from the U.S. Forest Service to the BLM as part of the Omnibus Public Land Management Act of 2009.

The sales will be subject to Section 203(d) and (f) of the Federal Land Policy and Management Act of 1976 (FLPMA), 43 U.S.C. 1713(d)(f) and 1719, respectively, and any applicable BLM land sale and mineral conveyance regulations at 43 CFR Part 2710. More detailed information regarding the proposed sales, including maps and current appraisals, may be reviewed during normal business hours at the BLM Sierra Front Field Office at the address listed above.

Certain public lands in Carson City, Nevada, were identified for disposal by sale to qualified bidders in Section 2601 of the Omnibus Public Land Management Act of 2009 (Act). The Act also withdrew the specified public lands from all forms of entry and appropriation under the public land laws, excepting sale consistent with the Act; the location, entry and patent under the mining laws; and the mineral leasing and geothermal leasing laws. In accordance with Section 2601(e) of the Act, 5 percent of the proceeds from the sales will be paid directly to the State for use in the general education program of the State and the remainder will be deposited in the “Carson City Special Account” and will be available to: (i) Reimburse costs incurred by the BLM for preparing for the sale of other public lands identified in subsection (d)(2); (ii) reimburse costs incurred by the BLM and the U.S. Forest Service for carrying out transfers of land to be held in trust by the United States under subsection (h)(1); and (iii) acquire environmentally sensitive land or an interest in environmentally sensitive land in Carson City.

The BLM issued the Carson City Lands Sales Final Environmental Assessment Finding of No Significant Impact and Decision Record on November 18, 2010.

Until completion of the sale, the BLM will no longer accept applications for new land use authorizations on the identified public lands. Patents or other conveyance documents will contain the following terms, conditions, and reservations:

1. A reservation of a right-of-way to the United States for ditches and canals constructed by authority of the United States under the Act of August 30, 1890 (43 U.S.C. 945);

2. A condition that the conveyance be subject to valid existing rights;

3. An appropriate indemnification clause protecting the United States from claims arising out of the patentee's use, occupancy, or operations on the patented lands; and

4. A reservation of all minerals to the United States together with the right to explore, prospect for, mine, and remove them under applicable law and such regulations as the Secretary may prescribe.

In addition the parcels will be subject to the following encumbrances of record:

Sale 1—South Edmonds Parcel is encumbered by:

Right-of-way NVN 0060169 for gas pipeline purposes granted to Paiute Pipeline Company, its successors or assigns, pursuant to the Act of February 25, 1920 (30 U.S.C. 185, sec. 28);

Right-of-way NVN 035560 for road and utility purposes granted to Carson City, its successors or assigns, pursuant to the Act of October 21, 1976 (43 U.S.C. 1761);

Right-of-way NVN 047782 for communication line purposes granted to Nevada Bell, its successors or assigns, pursuant to the Act of October 21, 1976 (43 U.S.C. 1761);

Right-of-way NVN 048336 for power line purposes granted to Sierra Pacific Power Company, its successors or assigns, pursuant to the Act of October 21, 1976 (43 U.S.C. 1761); and

Right-of-way NVN 080640 for sewer line purposes granted to Carson City, its successors or assigns, pursuant to the Act of October 21, 1976 (43 U.S.C. 1761).

Sale 2—Parcel 1A is encumbered by:

Rights-of-way NVN 0041036 and NVN 0043433 for highway purposes granted to the Nevada Department of Transportation, its successors or assigns, pursuant to the Act of November 9, 1921 (42 Stat. 0216);

Right-of-way NVN 0012729 for highway material site purposes granted to the Nevada Department of Transportation, its successors or assigns, pursuant to the Act of August 27, 1958 (23 U.S.C. 317(A)); and

Right-of-way NVN 087757 for drainage facility purposes granted to Carson City, its successors or assigns, pursuant to the Act of October 21, 1976 (43 U.S.C. 1761).

The BLM will notify valid existing right-of-way holders of their ability to convert their compliant rights-of-way to a new term, including perpetuity, if applicable, or to an easement prior to conveyance.

Detailed bid requirements, including the deadline for submission of bids, will be announced on the BLM Carson City District Web site: http://www.blm.gov/nv/st/en/fo/carson_city_field.html at least 30 days prior to the sale date.

Sealed bids must be for not less than the appraised fair market value. Each sealed bid must include a certified check, money order, bank draft, or cashier's check made payable in U.S. currency to “Department of the Interior—Bureau of Land Management” for not less than 10 percent of the amount of the bid and must be enclosed in a sealed envelope with the name of the sale parcel (either “Sale 1—South Edmonds Parcel” or “Sale 2—Parcel 1A”) written on the lower front left-hand corner of the envelope.

The highest qualifying bidder for each sale parcel will be declared the high bidder and will receive written notice. Bidders submitting matching high bid amounts will be provided an opportunity to submit supplemental bids. The BLM Sierra Front Field Office Manager will determine the method of supplemental bidding, which may be by oral auction or additional sealed bids. The high bidder must submit the remainder of the full bid price in the form of a certified check, money order, bank draft, or cashier's check made payable in U.S. currency to the “Department of the Interior—Bureau of Land Management” prior to expiration of 180 days from the day of sale. Personal checks will not be accepted. No contractual or other rights against the United States may accrue until the BLM officially accepts the offer to purchase and the full bid price is paid. Failure to pay the full price prior to the expiration of the 180th day following the day of sale will cause the entire 10 percent bid deposit to be forfeited to the BLM. In accordance with 43 CFR 2711.3-1(f), the BLM may accept or reject any or all offers to purchase, or withdraw any parcel of land or interest therein from sale, if, in the opinion of a BLM authorized officer, consummation of the sale would be inconsistent with any law, or for other reasons. If not sold, the lands described in this notice may be identified for sale at a later date without further legal notice.

Federal law requires that bidders must be (1) United States citizens 18 years of age or older; (2) a corporation subject to the laws of any State or of the United States; (3) an entity including, but not limited to associations or partnerships capable of acquiring and owning real property, or interests therein, under the laws of the State of Nevada; or (4) a State, State instrumentality, or political subdivision authorized to hold real property. U.S. citizenship is evidenced by presenting a birth certificate, passport, or naturalization papers. In addition, the Act requires that bidders must be certified by Carson City Consolidated Municipality, Nevada, that they have agreed to comply with city zoning ordinances and any master plan for the area approved by the City.

In order to determine the appraised value of the lands proposed for sale, certain assumptions may have been made concerning the attributes and limitations of the lands and potential effects of local regulations and policies on potential future land uses. Through publication of this notice, the BLM advises that these assumptions may not be endorsed or approved by units of local government. It is the buyer's responsibility to be aware of all applicable Federal, State, or local government laws, regulations, or policies that may affect the subject lands or its future uses. It is also the buyer's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Any lands lacking access from a public road or highway will be conveyed as such, and future access acquisition will be the responsibility of the buyer.

Only written comments will be considered properly filed. Before including your address, phone number, e-mail address, or other personal identifying information in your comment—you should be aware that your entire comment, including your personal identifying information—may be made publicly available at any time. While you can ask us in your comment to withhold your personal identifying information from the public review, we cannot guarantee that we will be able to do so.

Any adverse comments regarding the proposed sales will be reviewed by the BLM Nevada State Director, who may sustain, vacate, or modify this realty action. In the absence of any adverse comments, this realty action will become the final determination of the Department of the Interior.

Authority: 43 CFR Part 2711.

Linda J. Kelly,
Manager, Sierra Front Field Office.

[FR Doc. 2011-18632 Filed 7-22-11; 8:45 am]

BILLING CODE 4310-HC-P